GENERAL SERVICES ADMINISTRATION

Availability of Final Environmental Impact Statement (FEIS) Proposed U.S. Courthouse, Springfield, MA

Pursuant to section 102(2)(C) of the National Environmental Policy Act (NEPA) of 1969, as amended, as implemented by the Council on Environmental Quality (40 CFR Parts 1500-1508), the General Services Administration (GSA) has filed with the U.S. Environmental Protection Agency and made available to other government and interested private parties, the Final Environmental Impact Statement (FEIS) for the construction of a U.S. Courthouse in the City of Springfield, Hampden County, Massachusetts.

The FEIS is one file at the Springfield City Hall, Clerk's Office, 36 Court Street; Springfield Public Library, Reference Desk, 220 State Street; and General Services Administration, 10 Causeway Street, Ninth Floor, Boston, Massachusetts.

Additional information may be obtained from the General Services Administration, Region 1, Attention: Frank Saviano, Project Manager, GSA Technical Support Division, 10 Causeway Street, Room 975, Boston, MA 02222. Telephone 617.565.5494 FAX 617.565.5967

Written comments on the FEIS may be submitted until September 25, 2000 and should be addressed to the General Services Administration in care of the above noted individual.

Issued in Boston, Massachusetts on August 8, 2000.
Robert J. Dunfey, Jr.,
Regional Administrator.

[FR Doc. 00-21145 Filed 8-24-00; 8:45 am]

BILLING CODE 6820-23-M